NATIONAL AERONAUTICS AND SPACE ADMINISTRATION

[Notice: (11-038)]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach Committee of the NASA Advisory Council (NAC).

DATES: Friday, April 29, 2011, 8:30 a.m. to 5:30 p.m., Local Time.

ADDRESSES: From 8:30 to 9:45 a.m., the meeting will occur at the Edward Jones Dome located at 701 Convention Plaza in St. Louis, MO. From 10 a.m.-12 noon, the meeting will be conducted at the Renaissance St. Louis Grand & Suites, 800 Washington Avenue, in St. Louis, MO, in the Benton Room. From 2-5:30 p.m., the meeting will take place at the Edward Jones Dome, 701 Convention Plaza, in St. Louis, MO.

FOR FURTHER INFORMATION CONTACT: This meeting will also take place telephonically and via WebEx. Any interested person should contact Ms. Erika G. Vick, Executive Secretary for the Education and Public Outreach Committee, National Aeronautics and Space Administration, Washington, DC, at Erika.vick-1@nasa.gov, no later than 4 p.m., local time, April 27, 2011, to get further information about participating via teleconference and/or WebEx.

SUPPLEMENTARY INFORMATION: The agenda for the meeting includes the following topics:

FIRST Robotics Championship Opening Ceremony,

FIRST Robotics from the NASA HQ Perspective,

FIRST Robotics from the NASA Center Perspective,

Leadership Forum,

Tour the FIRST Robotics Teams.

The meeting will be open to the public up to the seating capacity of the room. It is imperative that the meeting be held on this date to accommodate the scheduling priorities of the key participants.

Dated: April 8, 2011.
P. Diane Rausch,
Advisory Committee Management Officer, National Aeronautics and Space Administration.

[FR Doc. 2011-9036 Filed 4-13-11; 8:45 am]

BILLING CODE 7510-13-P